DEPARTMENT OF TRANSPORTATION

Federal Aviation Administration

14 CFR Part 39

[Docket No. FAA-2013-0688; Directorate Identifier 2012-NM-221-AD]

RIN 2120-AA64

Airworthiness Directives; EADS CASA (Type Certificate Previously Held by Construcciones Aeronáuticas, S.A.) Airplanes

AGENCY: Federal Aviation Administration (FAA), DOT.

ACTION: Notice of proposed rulemaking (NPRM).

SUMMARY: We propose to adopt a new airworthiness directive (AD) for certain EADS CASA (Type Certificate Previously Held by Construcciones Aeronáuticas, S.A.) Model C-212-CB, C-212-CC, C-212-CD, C-212-CE, and C-212-DF airplanes. This proposed AD was prompted by a report of the propeller pitch control (PPC) lever becoming disconnected from the engine due to a missing bolt. This proposed AD would require modifying the PPC lever attachment system. We are proposing this AD to prevent PPC shaft disconnection, which could lead to a loss of propeller pitch control, possibly resulting in uncommanded change to the engine power settings and consequent reduced controllability of the airplane.

DATES: We must receive comments on this proposed AD by September 27, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For EADS-CASA service information identified in this proposed AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net. For Honeywell service information identified in this AD, contact Honeywell International Inc., 111 S. 34th Street, Phoenix, AZ 85034-2802; Internet: http://portal.honeywell.com; telephone: 800-601-3099. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Shahram Daneshmandi, Aerospace Engineer, International Branch, ANM-116, Transport Airplane Directorate, FAA, 1601 Lind Avenue SW., Renton, Washington 98057-3356; telephone (425) 227-1112; fax (425) 227-1149.

SUPPLEMENTARY INFORMATION:

Comments Invited

We invite you to send any written relevant data, views, or arguments about this proposed AD. Send your comments to an address listed under the ADDRESSES section. Include “Docket No. FAA-2013-0688; Directorate Identifier 2012-NM-221-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the aviation authority for the Member States of the European Community, has issued EASA Airworthiness Directive 2012-0251, dated November 27, 2012 (referred to after this as the Mandatory Continuing Airworthiness Information, or “the MCAI”), to correct an unsafe condition for the specified products. The MCAI states:

An occurrence was reported where the propeller pitch control (PPC) lever disconnected from the engine (a TPE331-10R-511C) on a C-212-CC aeroplane.

The result of the subsequent investigation revealed that the PPC lever disconnection occurred due to a missing bolt, which fixes the clamp that joins the PPC lever to the PPC rod.

This condition, if not corrected, could lead to a loss of an affected propeller pitch control, possibly resulting in uncommanded change to the engine power settings and consequent reduced control of the aeroplane.

To address this potential unsafe condition, EADS-CASA developed a modification (mod 10515) that eliminates the possibility of PPC shaft disconnection and made this available through Service Bulletin SB-212-76-0009 to be applied in service.

For the reasons described above, this [EASA] AD requires modification of PPC lever attachment system.

You may obtain further information by examining the MCAI in the AD docket.

Relevant Service Information

EADS CASA has issued Service Bulletin SB-212-76-0009, Revision 1, dated August 03, 2012. EADS CASA Bulletin SB-212-76-0009, Revision 1, dated August 03, 2012, refers to Honeywell Service Bulletin TPE331-72-2190, dated December 21, 2011, as an additional source of guidance for modifying the PPC lever attachment system. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 42 airplanes of U.S. registry.

We estimate the following costs to comply with this proposed AD:

Estimated Costs
Action | Labor cost | Parts cost | Cost per product | Cost on U.S. operators
Modification | 20 work-hours × $85 per hour = $1,700 | $1,018 | $2,718 | $114,156

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

EADS CASA (Type Certificate Previously Held by Construcciones Aeronáuticas, S.A.): Docket No. FAA-2013-0688; Directorate Identifier 2012-NM-221-AD.

(a) Comments Due Date

We must receive comments by September 27, 2013.

(b) Affected ADs

None.

(c) Applicability

This AD applies to EADS CASA (Type Certificate previously held by Construcciones Aeronáuticas, S.A.) Model C-212-CB, C-212-CC, C-212-CD, C-212-CE, C-212-CF, and C-212-DF airplanes; certificated in any category; all serial numbers, except those that have been modified in production to incorporate EADS CASA Modification 10515.

(d) Subject

Air Transport Association (ATA) of America Code 76, Engine Controls.

(e) Reason

This AD was prompted by a report of the propeller pitch control (PPC) lever becoming disconnected from the engine due to a missing bolt. We are issuing this AD to prevent PPC shaft disconnection, which could lead to a loss of propeller pitch control, possibly resulting in uncommanded change to the engine power settings and consequent reduced controllability of the airplane.

(f) Compliance

You are responsible for having the actions required by this AD performed within the compliance times specified, unless the actions have already been done.

(g) Modification

Within 24 months after the effective date of this AD, modify the propeller pitch control (PCC) lever attachment system of the aircraft engine, in accordance with the Accomplishment Instructions of EADS-CASA Service Bulletin SB-212-76-0009, Revision 1, dated August 03, 2012.

Note 1 to paragraph (g) of this AD: EADS-CASA Service Bulletin SB-212-76-0009, Revision 1, dated August 03, 2012, refers to Honeywell Service Bulletin TPE331-72-2190, dated December 21, 2011, as an additional source of guidance for modifying the cam assembly.

(h) Other FAA AD Provisions

The following provisions also apply to this AD:

(1) Alternative Methods of Compliance (AMOCs): The Manager, ANM-116, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, Washington 98057-3356; telephone (425) 227-1112; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

(1) Refer to Mandatory Continuing Airworthiness Information (MCAI) EASA Airworthiness Directive 2012-0251, dated November 27, 2012 and EADS-CASA Service Bulletin SB-212-76-0009, Revision 1, dated August 03, 2012, for related information.

(2) For EADS-CASA service information identified in this AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net. For Honeywell service information identified in this AD, contact Honeywell International Inc., 111 S. 34th Street, Phoenix, AZ 85034-2802; Web site: http://portal.honeywell.com; or call Honeywell toll free at phone: 800-601-3099 (U.S./Canada) or 602-365-3099 (International Direct). You may review copies of the referenced service information at the FAA, Transport Airplane Directorate, 1601 Lind Avenue SW., Renton, WA. For information on the availability of this material at the FAA, call 425-227-1221.

Issued in Renton, Washington, on August 1, 2013.
Jeffrey E. Duven,
Acting Manager, Transport Airplane Directorate, Aircraft Certification Service.

[FR Doc. 2013-19535 Filed 8-12-13; 8:45 am]

BILLING CODE 4910-13-P